DEPARTMENT OF TRANSPORTATION

Federal Aviation Administration

14 CFR Part 39

[Docket No. FAA-2011-1064; Directorate Identifier 2011-NM-075-AD]

RIN 2120-AA64

Airworthiness Directives; Bombardier, Inc. Model BD-100-1A10 (Challenger 300) Airplanes

AGENCY: Federal Aviation Administration (FAA), DOT.

ACTION: Notice of proposed rulemaking (NPRM).

SUMMARY: We propose to adopt a new airworthiness directive (AD) for the products listed above. This proposed AD results from mandatory continuing airworthiness information (MCAI) originated by an aviation authority of another country to identify and correct an unsafe condition on an aviation product. The MCAI describes the unsafe condition as:

It was discovered that the Horizontal Stabilizer Trim Actuator (HSTA) No Back and the Number 1 Motor Brake Assembly (MBA) can both fail dormant. A failure of the HSTA No Back and the Brake System along with additional component failure could result in an uncontrollable horizontal stabilizer surface runaway without the ability to retrim. This condition, if not corrected, could lead to the loss of the aeroplane.

* * * * *

The proposed AD would require actions that are intended to address the unsafe condition described in the MCAI.

DATES: We must receive comments on this proposed AD by November 25, 2011.

ADDRESSES: You may send comments by any of the following methods:

• Federal eRulemaking Portal: Go to http://www.regulations.gov. Follow the instructions for submitting comments.

• Fax: (202) 493-2251.

• Mail: U.S. Department of Transportation, Docket Operations, M-30, West Building Ground Floor, Room W12-140, 1200 New Jersey Avenue, SE., Washington, DC 20590.

• Hand Delivery: U.S. Department of Transportation, Docket Operations, M-30, West Building Ground Floor, Room W12-140, 1200 New Jersey Avenue, SE., Washington, DC, between 9 a.m. and 5 p.m., Monday through Friday, except Federal holidays.

For service information identified in this proposed AD, contact Bombardier, Inc., 400 Côte-Vertu Road West, Dorval, Québec H4S 1Y9, Canada; telephone 514-855-5000; fax 514-855-7401; e-mail thd.crj@aero.bombardier.com; Internet http://www.bombardier.com. You may review copies of the referenced service information at the FAA, Transport Airplane Directorate, 1601 Lind Avenue, SW., Renton, Washington. For information on the availability of this material at the FAA, call 425-227-1221.

Examining the AD Docket

You may examine the AD docket on the Internet at http://www.regulations.gov; or in person at the Docket Operations office between 9 a.m. and 5 p.m., Monday through Friday, except Federal holidays. The AD docket contains this proposed AD, the regulatory evaluation, any comments received, and other information. The street address for the Docket Operations office (telephone (800) 647-5527) is in the ADDRESSES section. Comments will be available in the AD docket shortly after receipt.

FOR FURTHER INFORMATION CONTACT: Cesar Gomez, Aerospace Engineer, Airframe and Mechanical Systems Branch, ANE-171, FAA, New York Aircraft Certification Office, 1600 Stewart Avenue, Suite 410, Westbury, New York 11590; telephone (516) 228-7318; fax (516) 794-5531.

SUPPLEMENTARY INFORMATION:

Comments Invited

We invite you to send any written relevant data, views, or arguments about this proposed AD. Send your comments to an address listed under the ADDRESSES section. Include “Docket No. FAA-2011-1064; Directorate Identifier 2011-NM-075-AD” at the beginning of your comments. We specifically invite comments on the overall regulatory, economic, environmental, and energy aspects of this proposed AD. We will consider all comments received by the closing date and may amend this proposed AD based on those comments.

We will post all comments we receive, without change, to http://www.regulations.gov, including any personal information you provide. We will also post a report summarizing each substantive verbal contact we receive about this proposed AD.

Discussion

The Transport Canada Civil Aviation (TCCA), which is the aviation authority for Canada, has issued Canadian Airworthiness Directive CF-2011-05, dated March 24, 2011 (referred to after this as “the MCAI”), to correct an unsafe condition for the specified products. The MCAI states:

It was discovered that the Horizontal Stabilizer Trim Actuator (HSTA) No Back and the Number 1 Motor Brake Assembly (MBA) can both fail dormant. A failure of the HSTA No Back and the Brake System along with additional component failure could result in an uncontrollable horizontal stabilizer surface runaway without the ability to retrim. This condition, if not corrected, could lead to the loss of the aeroplane.

As a result, new Airworthiness Limitation Tasks, consisting of a functional test of the HSTA No Back and a functional test of the HSTA Brake System, have been introduced to ensure that a dormant failure of either component is detected and corrected.

This [TCCA] directive mandates the revision of the approved maintenance schedule to include these new tasks, including phase-in schedules.

You may obtain further information by examining the MCAI in the AD docket.

Relevant Service Information

Bombardier, Inc. has issued Temporary Revision 5-2-59, dated November 25, 2010, to Section 5-10-40, “Certification Maintenance Requirements,” of Part 2, “Airworthiness Limitations,” of the Bombardier Challenger 300 BD-100 Time Limits/Maintenance Checks Manual. The actions described in this service information are intended to correct the unsafe condition identified in the MCAI.

FAA's Determination and Requirements of This Proposed AD

This product has been approved by the aviation authority of another country, and is approved for operation in the United States. Pursuant to our bilateral agreement with the State of Design Authority, we have been notified of the unsafe condition described in the MCAI and service information referenced above. We are proposing this AD because we evaluated all pertinent information and determined an unsafe condition exists and is likely to exist or develop on other products of the same type design.

Differences Between This AD and the MCAI or Service Information

We have reviewed the MCAI and related service information and, in general, agree with their substance. But we might have found it necessary to use different words from those in the MCAI to ensure the AD is clear for U.S. operators and is enforceable. In making these changes, we do not intend to differ substantively from the information provided in the MCAI and related service information.

We might also have proposed different actions in this AD from those in the MCAI in order to follow FAA policies. Any such differences are highlighted in a NOTE within the proposed AD.

Costs of Compliance

Based on the service information, we estimate that this proposed AD would affect about 76 products of U.S. registry. We also estimate that it would take about 1 work-hour per product to comply with the basic requirements of this proposed AD. The average labor rate is $85 per work-hour. Based on these figures, we estimate the cost of the proposed AD on U.S. operators to be $6,460, or $85 per product.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this proposed AD would not have federalism implications under Executive Order 13132. This proposed AD would not have a substantial direct effect on the States, on the relationship between the national Government and the States, or on the distribution of power and responsibilities among the various levels of government.

For the reasons discussed above, I certify this proposed regulation:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a regulatory evaluation of the estimated costs to comply with this proposed AD and placed it in the AD docket.

List of Subjects in 14 CFR Part 39

Air transportation, Aircraft, Aviation safety, Incorporation by reference, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new AD:

Bombardier, Inc.: Docket No. FAA-2011-1064; Directorate Identifier 2011-NM-075-AD.

Comments Due Date

(a) We must receive comments by November 25, 2011.

Affected ADs

(b) None.

Applicability

(c) This AD applies to all Bombardier, Inc. Model BD-100-1A10 (Challenger 300) airplanes, certificated in any category.

Note 1: This AD requires revisions to certain operator maintenance documents to include new inspections. Compliance with these tasks is required by 14 CFR 91.403(c). For airplanes that have been previously modified, altered, or repaired in the areas addressed by these inspections, the operator may not be able to accomplish the inspections described in the revisions. In this situation, to comply with 14 CFR 91.403(c), the operator must request approval for an alternative method of compliance according to paragraph (j) of this AD. The request should include a description of changes to the required inspections that will ensure the continued operational safety of the airplane.

Subject

(d) Air Transport Association (ATA) of America Code 55: Stabilizers.

Reason

(e) The mandatory continuing airworthiness information (MCAI) states:

It was discovered that the Horizontal Stabilizer Trim Actuator (HSTA) No Back and the Number 1 Motor Brake Assembly (MBA) can both fail dormant. A failure of the HSTA No Back and the Brake System along with additional component failure could result in an uncontrollable horizontal stabilizer surface runaway without the ability to retrim. This condition, if not corrected, could lead to the loss of the aeroplane.

* * * * *

Compliance

(f) You are responsible for having the actions required by this AD performed within the compliance times specified, unless the actions have already been done.

Actions

(g) Within 30 days the effective date of this AD: Revise the maintenance program by incorporating Task 27-40-00-107, “Horizontal Stabilizer Trim Actuator (HSTA) No Back,” in accordance with Bombardier Temporary Revision 5-2-59, dated November 25, 2010, to Section 5-10-40, “Certification Maintenance Requirements,” of Part 2, “Airworthiness Limitations,” of the Bombardier Challenger 300 BD-100 Time Limits/Maintenance Checks Manual. For this task, the initial compliance time starts at the applicable time specified in paragraph (g)(1) or (g)(2) of this AD.

(1) For HSTAs with 2,600 or fewer total flight hours on the HSTA as of the effective date of this AD: Prior to the accumulation of 3,000 total flight hours on the HSTA.

(2) For HSTAs with more than 2,600 total flight hours on the HSTA as of the effective date of this AD: Within 400 flight hours or 6 months after the effective date of this AD, whichever occurs first.

(h) Within 30 days after the effective date of this AD, whichever occurs later: Revise the maintenance program by incorporating Task 27-41-05-105, “Functional Test of the Horizontal Stabilizer Trim Actuator (HSTA) Brake System,” in accordance with Bombardier Temporary Revision 5-2-59, dated November 25, 2010, to Section 5-10-40, “Certification Maintenance Requirements,” of Part 2, “Airworthiness Limitations,” of the Bombardier Challenger 300 BD-100 Time Limits/Maintenance Checks Manual. For this task, the initial compliance time starts at the applicable time specified in paragraph (h)(1) or (h)(2) of this AD.

(1) For airplanes with 400 or fewer total flight hours as of the effective date of this AD: Prior to the accumulation of 800 total flight hours.

(2) For airplanes with more than 400 total flight hours as of the effective date of this AD: Within 400 flight hours or 12 months after the effective date of this AD, whichever occurs first.

Note 2: The maintenance program revision required by paragraphs (g) and (h) of this AD may be done by inserting a copy of Bombardier TR 5-2-59, dated November 25, 2010, into Section 5-10-40, “Certification Maintenance Requirements,” of Part 2, “Airworthiness Limitations,” of the Bombardier Challenger 300 BD-100 Time Limits/Maintenance Checks Manual. When this TR has been included in the general revisions of Section 5-10-40, “Certification Maintenance Requirements,” of Part 2, “Airworthiness Limitations,” of the Bombardier Challenger 300 BD-100 Time Limits/Maintenance Checks Manual, the general revisions may be inserted in Section 5-10-40, “Certification Maintenance Requirements,” of Part 2, “Airworthiness Limitations,” of the Bombardier Challenger 300 BD-100 Time Limits/Maintenance Checks Manual, provided that the relevant information in the general revision is identical to that in Bombardier TR 5-2-59, dated November 25, 2010, to Section 5-10-40, “Certification Maintenance Requirements,” of Part 2, “Airworthiness Limitations,” of the Bombardier Challenger 300 BD-100 Time Limits/Maintenance Checks Manual.

No Alternative Actions or Intervals

(i) After accomplishing the revision required by paragraphs (g) and (h) of this AD, no alternative actions (e.g., inspections) or intervals may be used unless the actions or intervals are approved as an alternative method of compliance (AMOC) in accordance with the procedures specified in paragraph (j)(1) of this AD.

FAA AD Differences

Note 3: This AD differs from the MCAI and/or service information as follows:

No differences.

Other FAA AD Provisions

(j) The following provisions also apply to this AD:

(1) Alternative Methods of Compliance (AMOCs): The Manager, New York Aircraft Certification Office (ACO), ANE-170, FAA, has the authority to approve AMOCs for this AD, if requested using the procedures found in 14 CFR 39.19. In accordance with 14 CFR 39.19, send your request to your principal inspector or local Flight Standards District Office, as appropriate. If sending information directly to the ACO, send it to ATTN: Program Manager, Continuing Operational Safety, FAA, New York ACO, 1600 Stewart Avenue, Suite 410, Westbury, New York 11590; telephone 516-228-7300; fax 516-794-5531. Before using any approved AMOC, notify your appropriate principal inspector, or lacking a principal inspector, the manager of the local flight standards district office/certificate holding district office. The AMOC approval letter must specifically reference this AD.

(2) Airworthy Product: For any requirement in this AD to obtain corrective actions from a manufacturer or other source, use these actions if they are FAA-approved. Corrective actions are considered FAA-approved if they are approved by the State of Design Authority (or their delegated agent). You are required to assure the product is airworthy before it is returned to service.

Related Information

(k) Refer to MCAI Transport Canada Civil Aviation (TCCA) Airworthiness Directive CF-2011-05, dated March 24, 2011; and Bombardier Temporary Revision 5-2-59, dated November 25, 2010, to Section 5-10-40, “Certification Maintenance Requirements,” of Part 2, “Airworthiness Limitations,” of the Bombardier Challenger 300 BD-100 Time Limits/Maintenance Checks Manual; for related information.

Issued in Renton, Washington, on September 30, 2011.
Ali Bahrami,
Manager, Transport Airplane Directorate, Aircraft Certification Service.

[FR Doc. 2011-26111 Filed 10-7-11; 8:45 am]

BILLING CODE 4910-13-P